DEPARTMENT OF ENERGY

Privacy Act of 1974; Notice of Amendment to an Existing System of Records

AGENCY: Department of Energy.

ACTION: Notice.

SUMMARY: As required by the Privacy Act of 1974, 5 U.S.C. 552a, and the Office of Management and Budget (OMB) Circular A-130, the Department of Energy (DOE) is publishing a notice of a proposed amendment to an existing system of records and the deletion of a system that will no longer be maintained. DOE has acquired a new financial system that requires new hardware and software. This notice proposes to combine DOE-18 “Accounts Payable Financial System” and DOE-19 “Accounts Receivable Financial System” into a single system of records, eliminate DOE-19 “Accounts Receivable Financial System” from the Department's inventory of systems of records, rename DOE-18 to “Financial Accounting System,” expand the categories of records maintained in the system, and establish a new routine use provision for DOE-18.

DATES: The proposed amendment to an existing system of records will become effective without further notice, on May 12, 2005, unless in advance of that date, DOE receives adverse comments and determines that this amendment should not become effective on that date.

ADDRESSES: Written comments should be directed to the following address: U.S. Department of Energy, Abel Lopez, Director, Freedom of Information Act and Privacy Act Group, ME-74, 1000 Independence Avenue, SW., Washington, DC 20585.

FOR FURTHER INFORMATION CONTACT: Abel Lopez, Director, Freedom of Information Act and Privacy Act Group, ME-74, U.S. Department of Energy, 1000 Independence Avenue, SW., Washington, DC 20585, 202-586-5955; Wendy L. Miller, Director, Capital Accounting Operations Division, Office of Financial Management, ME-14.2, U.S. Department of Energy, 1000 Independence Avenue, SW., Washington, DC 20585-1290, (301) 903-5858; and Isiah Smith, Deputy Assistant General Counsel for Administrative Litigation and Information Law, GC-77, U.S. Department of Energy, 1000 Independence Avenue, SW., Washington, DC 20585, (202) 586-8618.

SUPPLEMENTARY INFORMATION: DOE has acquired a new financial system, Integrated Management Navigation System (I-MANAGE) Standard Accounting and Reporting System (STARS), that requires new hardware and software. I-MANAGE STARS will provide DOE with a modern, comprehensive and responsive financial management system that will electronically integrate financial accounting, financial reporting, cost accounting, and performance measurement. I-MANAGE STARS will provide critical strategic support for the DOE mission as the solution for financial, operational, and reporting requirements to enhance accountability and improve decision-making. The system will maintain the financial information that is currently collected and maintained in two DOE systems of records, DOE-18 “Accounts Payable Financial System” and DOE-19 “Accounts Receivable Financial System.”

This notice proposes to amend DOE-18 “Accounts Payable Financial System” by expanding the categories of records maintained in the system and consolidating the information maintained in DOE-19 “Accounts Receivable Financial System” into the amended DOE-18. This notice also proposes to change the name of DOE-18 “Accounts Payable Financial System” to DOE-18 “Financial Accounting System,” and establish a new routine use provision. Since the records maintained in DOE-19 will be incorporated into the amended DOE-18, DOE will delete DOE-19 “Accounts Receivable Financial System” from its inventory of systems of records.

The categories of records section is being amended to include employment information and date of birth and gender of the employee, contractor, and vendor.

In addition, this notice also proposes to add a new routine use to allow disclosure of information maintained in the system of records to the Department of the Treasury. These amendments are necessary to provide procedures for paying creditors who provide products and services to DOE.

DOE is submitting the report required by OMB Circular A-130 concurrently with the publication of this notice. The text of this notice contains the information required by the Privacy Act, 5 U.S.C. 552a(e)(4).

Issued in Washington, DC on March 22, 2005.
James T. Campbell,
Deputy Director, Office of Management, Budget and Evaluation/Deputy Chief Financial Officer.

DOE-18

SYSTEM NAME:

Financial Accounting System.

SECURITY CLASSIFICATION:

Unclassified.

SYSTEM LOCATION(S):

U.S. Department of Energy, Headquarters, 19901 Germantown Rd., Germantown, MD, 20874

U.S. Department of Energy, Headquarters, 1000 Independence Avenue, SW., Washington, DC 20585

U.S. Department of Energy, National Nuclear Security Administration (NNSA) Service Center Albuquerque, P.O. Box 5400, Albuquerque, NM 87185-5400

U.S. Department of Energy, Atlanta Regional Support Office, 730 Peachtree, NE, Suite 876, Atlanta, GA 30308

U.S. Department of Energy, Bonneville Power Administration, P.O. Box 3621, Portland, OR 97208

U.S. Department of Energy, Boston Regional Support Office, One Congress Street, Room 1101, Boston, MA 021144-2021

U.S. Department of Energy, Carlsbad Field Office, P.O. Box 3090, Carlsbad, NM 88221

U.S. Department of Energy, Chicago Operations Office, 9800 South Cass Avenue, Argonne, IL 60439

U.S. Department of Energy, Golden Field Office, 1617 Cole Boulevard, Golden, CO 80401

U.S. Department of Energy, Idaho Operations Office, 850 Energy Drive, Idaho Falls, ID 83401

U.S. Department of Energy, National Energy Technology Laboratory (Morgantown), P.O. Box 880, Morgantown, WV 26507-0880

U.S. Department of Energy, National Energy Technology Laboratory (Pittsburgh), 626 Cochrans Mill Road, Pittsburgh, PA 15236-0940

U.S. Department of Energy, National Petroleum Technology Office, William Center Tower One, 1 West Third Street, Suite 1400, Tulsa, OK 74103

U.S. Department of Energy, Naval Petroleum and Oil Shale Reserves, 907 N. Poplar, Suite 150, Casper, WY 82601

U.S. Department of Energy, Naval Petroleum Reserves in California, 1601 New Stine Road, Suite 240, Bakersfield, CA 93309

U.S. Department of Energy, NNSA Service Center Nevada, P.O. Box 98518, Las Vegas, NV 89193-8518

U.S. Department of Energy, Oak Ridge Operations Office, P.O. Box 2001, Oak Ridge, TN 37831

U.S. Department of Energy, Office of Scientific & Technical Information, P.O. Box 62, Oak Ridge, TN 37831

U.S. Department of Energy, Ohio Field Office, P.O. Box 3020, Miamisburg, OH 45343

U.S. Department of Energy, Philadelphia Regional Support Office, 1880 John F. Kennedy Boulevard, Suite 501, Philadelphia, PA 19103-7483

U.S. Department of Energy, Pittsburgh Naval Reactors Office, P.O. Box 109, West Mifflin, PA 15122-0109

U.S. Department of Energy, Richland Operations Office, P.O. Box 550, Richland, WA 99352

U.S. Department of Energy, Rocky Flats Field Office, 10808 Highway 93, Unit A, Golden, CO 80403-8200

U.S. Department of Energy, Savannah River Operations Office, P.O. Aiken, SC 29801

U.S. Department of Energy, Seattle Regional Support Office, 800 Fifth Avenue, Suite 3950, Seattle, WA 98104

U.S. Department of Energy, Schenectady Naval Reactors Office, P.O. Box 1069, Schenectady, NY 12301

U.S. Department of Energy, Southeastern Power Administration, 1166 Athens Tech Road, Elberton, GA 30635-4578

U.S. Department of Energy, Southwestern Power Administration, Williams Tower One, One West Third Street, Tulsa, OK 74103 U.S. Department of Energy, Strategic Petroleum Reserve Project Office, 900 Commerce Road East, New Orleans, LA 70123

U.S. Department of Energy, Western Area Power Administration, P.O. Box 3402, Golden, CO 80401

U.S. Department of Energy, Office of Repository Development, P.O. Box 364629, North Las Vegas, NV 89036-8629

CATEGORIES OF INDIVIDUALS COVERED BY THE SYSTEM:

Employees, former employees, current and former contractor employees, vendors, and others who are either due money from or owe money to the Department of Energy (DOE).

CATEGORIES OF RECORDS IN THE SYSTEM:

Name, address, telephone number, date of birth, employment date, gender, tax payer identification number; amount owed and services or goods received; amounts due; underpayments, overpayments, and/or other accounting information; invoice number; servicing bank name and address; account number; amount and status of claim; and history of claim, including collection actions taken.

AUTHORITY FOR MAINTENANCE OF THE SYSTEM:

42 U.S.C. 7101 et seq.; 50 U.S.C. 2401 et seq.; the GAO Policy and Procedures Manual; Statement of Federal Financial Accounting Standards published by the Government Accountability Office and the Office of Management and Budget; Debt Collection Improvement Act of 1996, 31 U.S.C. 3512; 5 U.S.C. 5701-09; Federal Property Management Regulations 101-107; Treasury Financial Manual; Executive Order 12009; and Executive Order 9397.

PURPOSE(S):

The records are maintained and used by the DOE to substantiate obligations and payments to individuals for goods and services received by the agency and to record and manage the Department's accounts payable and receivable.

ROUTINE USES OF RECORDS MAINTAINED IN THE SYSTEM, INCLUDING CATEGORIES OF USERS AND THE PURPOSES OF SUCH USES:

1. A record from this system may be disclosed as a routine use to the appropriate local, State or Federal agency when that record alone or in conjunction with other information, indicates a violation or potential violation of law, whether civil, criminal, or regulatory in nature, and whether arising by general statute or particular program thereto.

2. A record from this system may be disclosed as a routine use to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

3. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; and (3) witness, potential witness, or their representatives and assistants, and any other person who possesses information pertaining to the matter, when it is necessary to obtain information or testimony relevant to the matter.

4. A record from this system may be disclosed as a routine use to other Federal agencies, consumer reporting agencies for acquiring credit information, and collection agencies to aid in the collection of outstanding debts owed to the Federal Government.

5. A record from this system may be disclosed as a routine use to Defense Manpower Data Center, Department of Defense, the United States Postal Service, and other Federal, State, or local agencies to identify and locate, through computer matching, individuals indebted to DOE who are receiving Federal salaries or benefit payments. Information from the match will be used to collect the debts by voluntary repayment, by administrative offset, or by salary offset procedures.

6. A record from this system may be disclosed as a routine use to the Internal Revenue Service (1) to collect the debt by offset against the debtor's tax refunds under the Federal Tax Refund Offset Program, and (2) to obtain the mailing address of a taxpayer to collect a debt owed to the DOE. Subsequent disclosure by DOE to a consumer reporting agency is limited to the purpose of obtaining a commercial credit report on the particular taxpayer. The mailing address information will not be used for any other DOE purpose or disclosed by DOE to another Federal, State, or local agency that seeks to locate the same individual for its own debt collection purpose.

7. A record from this system may be disclosed as a routine use to the Department of the Treasury for the purpose of administrative offset and debt recovery under section 31001 (m)(1) of the Debt Collection Improvement Act of 1996 (Pub. L. 104-134).

8. A record from this system may be disclosed as a routine use to the Department of the Treasury for the purpose of paying creditors for services or goods provided to the Department.

9. A record from this system may be disclosed as a routine use to a “consumer reporting agency” as defined by the Fair Credit Reporting Act, 15 U.S.C. 1681a(f), or the Federal Claims Collections Act of 1966, 31 U.S.C. 3701(a)(3), in accordance with 31 U.S.C. 3711(f).

10. A record from this system may be disclosed as a routine use to DOE contractors in performance of their contracts and their officers and employees who have a need for the record in the performance of their duties. Those individuals provided information under this routine use are subject to the same limitations applicable to DOE officers and employees under the Privacy Act.

11. A record from this system of records may be disclosed as a routine use to a Member of Congress submitting a request involving the constituent when the constituent has requested assistance from the member concerning the subject matter of the record. The member of Congress must provide a copy of the constituent's request for assistance.

POLICIES AND PRACTICES FOR STORING, RETRIEVING, ACCESSING, RETAINING, AND DISPOSING OF RECORDS IN THE SYSTEM:

STORAGE:

Records may be stored as paper records, electronic media, and magnetic tapes.

RETRIEVABILITY:

Records may be retrieved by name, taxpayer identification number, voucher, invoice, or payment reports.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of Management, Budget and Evaluation/Chief Financial Officer, U.S. Department of Energy, 1000 Independence Avenue, SW., Washington, DC 20585.

NOTIFICATION PROCEDURES:

In accordance with the DOE regulation implementing the Privacy Act, at Title 10, Code of Federal Regulations, Part 1008, a request by an individual to determine if a system of records contains information about him/her should be directed to the Director, Headquarters Freedom of Information Act and Privacy Act Group, U.S. Department of Energy. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Subject individual, contracting officer, and accounting records.

SYSTEM EXEMPT FROM CERTAIN PROVISIONS OF THE ACT:

None.

[FR Doc. 05-6036 Filed 3-28-05; 8:45 am]

BILLING CODE 6450-01-P